DEPARTMENT OF STATE

[Public Notice: 10214]

Notice of Availability of the Final Environmental Impact Statement for the Foreign Missions Center at the Former Walter Reed Army Medical Center, Washington, DC

AGENCY: Department of State.

ACTION: Notice of Availability.

SUMMARY: The U.S. Department of State (DOS) announces the availability of the Final Environmental Impact Statement (FEIS) on the master plan for the long-term development of a Foreign Missions Center, under authorities of the Foreign Missions Act of 1982, on the site of the former Walter Reed Army Medical Center (WRAMC) in the District of Columbia. Actions evaluated in the master plan consist of assignment of federal land to foreign missions for the purpose of constructing and operating new chancery facilities. DOS has prepared this FEIS on Alternative 7 as its Selected Action Alternative for the master plan, consistent with the National Environmental Policy Act (NEPA) of 1969, as amended, regulations developed by the Council on Environmental Quality, and DOS regulations for implementing NEPA.

DATES: Following this thirty (30) day notice in the Federal Register, DOS will issue a Record of Decision (ROD) at which time its availability will be announced in the Federal Register and local media. Please note that the public review period will close on December 31, 2017.

FOR FURTHER INFORMATION CONTACT: Geoffrey Hunt, Department of State, A/OPR/RPM, Room 1264, 2201 C St. NW., Washington, DC 20520-1264, or (202) 647-7530, or FMC.info@state.gov.

SUPPLEMENTARY INFORMATION: The master plan is intended to guide the development of a cohesive campus by establishing design and land-use planning principles for the construction of new buildings, roadways, open green space, and utilities, while minimizing environmental impacts. The FEIS analyzes the potential impacts associated with Alternative 7 that could satisfy the purpose and need defined in the FEIS and master plan. Additionally, the FEIS addresses substantive comments submitted by the public and other stakeholders during the public comment period for the Supplemental Draft Environmental Impact Statement (SDEIS).

The SDEIS was previously circulated publicly in April 2017 and Draft Environmental Impact Statement (DEIS) was previously circulated publicly in February 2014. Subsequent to the publication of the DEIS, the total acreage of the land available for transfer from the Army to DOS was reduced from 43.5 to 31.7 acres through the National Defense Authorization Act of 2015. Because of the change in the proposed action, DOS prepared the SDEIS to describe the new preferred alternative, and evaluate any change in potential impacts from the reduction in size of the proposed action.

In addition, DOS is carrying out the Section 106 review process under the National Historic Preservation Act of 1966, through which it consults with interested parties on the potential effect of the proposed undertaking on identified historic properties.

A “chancery” is the principal office of a foreign mission used for diplomatic or related purposes, and annexes to such offices (including ancillary offices and support facilities), and includes the site and any buildings on the site which are used for such purposes. A “foreign mission” is any mission to or agency or entity in the United States which is involved in diplomatic, consular or other activities of, or which is substantially owned or effectively controlled by, a foreign government; or an organization representing a territory or political entity which has been granted diplomatic or other official privileges and immunities under the laws of the United States or which engages in some aspect of the conduct of international affairs of such territory or political entity, including any real property of such a mission and the personnel of such a mission.

The need for the project is based on increased and high demand for foreign mission facilities in the District of Columbia, a lack of large sites for foreign mission development or redevelopment in the District of Columbia, and the need for land to use in property exchanges with other countries. The proposed Foreign Missions Center is needed to primarily address the increasing scarcity of suitable properties within the District of Columbia to locate the operations of foreign missions. This scarcity has impacted, in certain cases, DOS's ability to acquire properties of considerable size in foreign nations.

Master Plan Description

Alternatives Considered

DOS identified, developed, and analyzed the No Action Alternative and seven action alternatives that could potentially satisfy the proposed action's purpose and need. Alternative 7 and the No Action Alternative were retained for detailed study within the FEIS. Alternative 7 would provide up to 15 lots for chancery development, retain the historic Memorial Chapel building for adaptive reuse, and potentially retain other buildings for adaptive reuse, depending on marketability. Dahlia Street and 14th Street would be developed as connections to the surrounding neighborhoods. The existing historic perimeter fence along 16th Street and Alaska Avenue would remain. The existing landscape on the western boundary of the site would be enhanced to create a 50-foot vegetated buffer, maximizing the tree canopy in that area. Access to individual lots would be internal to the former WRAMC campus.

The No Action Alternative was included to provide a basis for comparison to the action alternative described above as required by the NEPA regulations. DOS has identified Alternative 7 as its Selected Action Alternative because it best satisfies the study purpose and needs, would fulfill their statutory mission and responsibilities, and has the least adverse environmental impact.

Distribution

The FEIS is available to the public at the Web site: http://www.state.gov/ofm/property/fmc/index.htm. DOS sends information related to this environmental review to individuals, organizations, and government entities interested in and/or potentially affected by the proposed project and maintains a distribution list for this purpose. The distribution list includes: Federal, state, and local government representatives and agencies; elected officials; environmental and public interest groups; other interested parties; and local libraries and newspapers. Copies are being distributed at the Advisory Neighborhood Commission 4A and 4B offices, the Juanita E. Thornton-Shepherd Park Library, the Takoma Park Neighborhood Library, and the Petworth Neighborhood Library.

Cliff C. Seagroves,
Director of the Office of Foreign Missions, Acting Department of State.

[FR Doc. 2017-25788 Filed 11-29-17; 8:45 am]

BILLING CODE 4710-43-P